DEPARTMENT OF THE INTERIOR

Bureau of Land Management

[MT-050-1430-ET; MTM 91719]

Public Land Order No. 7602: Withdrawal of Public Land for the Axolotl Lakes Area; MT

AGENCY: Bureau of Land Management, Interior.

ACTION: Public land order.

SUMMARY: This order withdraws 400.92 acres of public land from surface entry and mining for a period of 50 years for the Bureau of Land Management to protect wetland, riparian, fishery, recreation, and scenic values acquired in the Axolotl Lakes Area.

DATES: Effective Date: May 7, 2004.

FOR FURTHER INFORMATION CONTACT: Angela Brown, BLM Dillon Field Office, 100 Selway Drive, Dillon, Montana 59725, 406-683-2337, or Sandra Ward, BLM Montana State Office, P.O. Box 36800, Billings, Montana 59107, 406-896-5052.

Order

By virtue of the authority vested in the Secretary of the Interior by Section 204 of the Federal Land Policy and Management Act of 1976, 43 U.S.C. 1714 (2000), it is ordered as follows:

1. Subject to valid existing rights, the following described land is hereby withdrawn from settlement, sale, location or entry under the general land laws, including the United States mining laws 30 U.S.C. Ch. 2 (2000), but not from leasing under the mineral leasing laws, to protect resources acquired in the Axolotl Lakes area:

Principal Meridian, Montana

T. 7 S., R. 2 W.,

sec. 8, S½SE¼ and NW¼SE¼;

sec. 17, N½NE¼.

Tract C, as shown on Perrault No. 1 Minor Subdivision Plat filed in Book 4 of Plats, Page 267, in the records of Madison County, Montana, and being a tract of land located in the S½NE¼ of sec. 8 of T. 7 S., R. 2 W., and;

Tract D, as shown on Certificate of Survey No. 1277, filed in Book 7 of Surveys, Page 1277, in the records of Madison County, Montana, and being a tract of land located in S½NE¼ of sec. 8 and the S½N½ and SE¼ of sec. 9 of T. 7 S., R. 2 W.The area described contains 400.92 acres in Madison County.

2. The withdrawal made by this order does not alter the applicability of those public land laws governing the use of the lands under lease, license, or permit, or governing the disposal of their mineral or vegetative resources other than under the mining laws.

3. This withdrawal will expire 50 years from the effective date of this order unless, as a result of a review conducted before the expiration date pursuant to section 204(f) of the Federal Land Policy and Management Act of 1976, 43 U.S.C. 1714(f) (2000), the Secretary determines that the withdrawal shall be extended.

Dated: April 21, 2004.
Rebecca W. Watson,
Assistant Secretary—Land and Minerals Management.

[FR Doc. 04-10435 Filed 5-6-04; 8:45 am]

BILLING CODE 4310-DN-P